DEPARTMENT OF THE INTERIOR

National Park Service

[NPS-WASO-NAGPRA-10172; 2200-1100-665]

Notice of Inventory Completion: U.S. Department of Agriculture, San Juan National Forest, Durango, CO, and University of Denver Department of Anthropology, Denver, CO; Correction

AGENCY: National Park Service, Interior.

ACTION: Notice; correction.

Notice is here given in accordance with the Native American Graves Protection and Repatriation Act (NAGPRA), 25 U.S.C. 3003, of the completion of an inventory of human remains in the control of the U.S. Department of Agriculture, San Juan National Forest, Durango, CO, and in the possession of the Bureau of Land Management, Anasazi Heritage Center, Dolores, CO. The human remains were removed from Dolores County, CO.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the Notice of Inventory Completion published by the U.S. Department of Agriculture, San Juan National Forest in the Federal Register (73 FR 49485-49486, August 21, 2008). The same human remains in this notice were the subject of two other notices published by the University of Denver Department of Anthropology in the Federal Register (66 FR 51472-51474, October 9, 2001, stating that the human remains were under the control of the University of Denver Department of Anthropology; and 73 FR 62533-62535, October 21, 2008, correcting the first notice and stating that the human remains were under the control of the San Juan National Forest). The U.S. Department of Agriculture, San Juan National Forest, in consultation with the appropriate Indian tribes, has determined that there is a cultural affiliation between the human remains and present-day Indian tribes. A detailed reassessment of the human remains was conducted by Bureau of Land Management, Anasazi Heritage Center staff, on behalf of the U.S. Department of Agriculture, San Juan National Forest, in consultation with the Colorado River Indian Tribes of the Colorado River Indian Reservation, Arizona and California; Hopi Tribe of Arizona; Jicarilla Apache Nation, New Mexico; Kewa Pueblo, New Mexico (formerly the Pueblo of Santo Domingo); Navajo Nation, Arizona, New Mexico, and Utah; Ohkay Owingeh, New Mexico (formerly Pueblo of San Juan); Pueblo of Acoma, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Skull Valley Band of Goshute Indians of Utah; Southern Ute Indian Tribe of the Southern Ute Reservation, Colorado; Ute Mountain Tribe of the Ute Mountain Reservation, Colorado, New Mexico & Utah; Ysleta del Sur Pueblo of Texas; and the Zuni Tribe of the Zuni Reservation, New Mexico.

In the Federal Register (73 FR 49486, August 21, 2008), paragraph numbers 4-6 are corrected by substituting the following paragraphs:

At an unknown date, human remains representing, at minimum, one individual (catalog numbers DU6015 and DU6066) were collected from the Dove Creek area in Dolores County, CO, by an unknown person. In 1943, the remains were found in the office of Mr. Lee A. Brown, an employee of the U.S. Department of Agriculture, Forest Service, by Mr. Fred R. Johnson, also a Forest Service employee. The remains were donated by Mr. Johnson to Dr. E.B. Renaud of the University of Denver Department of Anthropology. No known individuals were identified. No associated funerary objects are present. Dr. Renaud, and laboratory assistant David DeHarport, analyzed the remains in 1943, and determined that they were Ancestral Puebloan based on the occipital deformation, tooth-wear, and reported origin from southwestern Colorado.

The U.S. Department of Agriculture, San Juan National Forest, has reviewed all available documentation relating to the human remains, including the research report prepared by the University of Denver Department of Anthropology and Museum of Anthropology for the original Notice of Inventory Completion published in the Federal Register (66 FR 51472-51474, October 9, 2001), and has concluded that the human remains were removed from a location in southwest Colorado extensively occupied by the Ancestral Puebloans for approximately 800 years. In conjunction with the original analysis and based on the preponderance of the evidence, the U.S. Department of Agriculture, San Juan National Forest has determined that there is a cultural affiliation between the human remains and present-day Indian tribes who are the descendants of the Ancestral Puebloans in southwestern Colorado.

Determinations Made by the U.S. Department of Agriculture, San Juan National Forest

Officials of the U.S. Department of Agriculture, San Juan National Forest have determined that:

• Pursuant to 25 U.S.C. 3001 (9-10), the human remains described above represent the physical remains of one individual of Native American ancestry.

• Pursuant to 25 U.S.C. 3001 (2), there is a relationship of shared group identity that can be reasonably traced between the Native American human remains and the Hopi Tribe of Arizona; Ohkay Owingeh, New Mexico (formerly the Pueblo of San Juan); Pueblo of Acoma, New Mexico; Pueblo of Jemez, New Mexico; Pueblo of Laguna, New Mexico; Pueblo of Nambe, New Mexico; Pueblo of Picuris, New Mexico; Pueblo of Pojoaque, New Mexico; Pueblo of San Ildefonso, New Mexico; Pueblo of Santa Clara, New Mexico; Pueblo of Taos, New Mexico; Pueblo of Tesuque, New Mexico; Pueblo of Zia, New Mexico; and the Zuni Tribe of the Zuni Reservation, New Mexico.

Additional Requestors and Disposition

Representatives of any other Indian tribe that believes itself to be culturally affiliated with the human remains should contact Julie Coleman, Heritage Program Manager, San Juan National Forest, 15 Burnett Ct., Durango, CO 81301, telephone (970) 385-1250 before July 5, 2012. Repatriation of the human remains to the Hopi Tribe of Arizona; Ohkay Owingeh, New Mexico (formerly the Pueblo of San Juan); Pueblo of Acoma, New Mexico; Pueblo of Jemez, New Mexico; Pueblo of Laguna, New Mexico; Pueblo of Nambe, New Mexico; Pueblo of Picuris, New Mexico; Pueblo of Pojoaque, New Mexico; Pueblo of San Ildefonso, New Mexico; Pueblo of Santa Clara, New Mexico; Pueblo of Taos, New Mexico; Pueblo of Tesuque, New Mexico; Pueblo of Zia, New Mexico; and the Zuni Tribe of the Zuni Reservation, New Mexico, may proceed after that date if no additional claimants come forward.

The San Juan National Forest is responsible for notifying the Colorado River Indian Tribes of the Colorado River Indian Reservation, Arizona and California; Hopi Tribe of Arizona; Jicarilla Apache Nation, New Mexico; Kewa Pueblo, New Mexico (formerly the Pueblo of Santo Domingo); Navajo Nation, Arizona, New Mexico, and Utah; Ohkay Owingeh, New Mexico (formerly Pueblo of San Juan); Pueblo of Acoma, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Skull Valley Band of Goshute Indians of Utah; Southern Ute Indian Tribe of the Southern Ute Reservation, Colorado; Ute Mountain Tribe of the Ute Mountain Reservation, Colorado, New Mexico & Utah; Ysleta del Sur Pueblo of Texas; and the Zuni Tribe of the Zuni Reservation, New Mexico, that this notice has been published.

Dated: May 30, 2012.
Sherry Hutt,
Manager, National NAGPRA Program.

[FR Doc. 2012-13459 Filed 6-1-12; 8:45 am]

BILLING CODE 4312-50-P